SAINT LAWRENCE SEAWAY DEVELOPMENT CORPORATION

33 CFR Part 401

[Docket No. SLSDC-2011-0002]

RIN 2135-AA29

Seaway Regulations and Rules: Periodic Update, Various Categories

AGENCY: Saint Lawrence Seaway Development Corporation, DOT.

ACTION: Notice of proposed rulemaking.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The proposed changes will update the following sections of the Regulations and Rules: Condition of Vessels, and Preclearance and Security for Tolls. These proposed amendments are necessary to take account of updated procedures and will enhance the safety of transits through the Seaway. Several of the proposed amendments are merely editorial or for clarification of existing requirements.

DATES: Any party wishing to present views on the proposed amendment may file comments with the Corporation on or before February 28, 2011.

ADDRESSES: You may submit comments [identified by Docket Number SLSDC 2011-0002] by any of the following methods:

• Web Site: http://www.Regulations.gov. Follow the online instructions for submitting comments/submissions.

• Fax: 1-202-493-2251.

• Mail: Docket Management Facility; U.S. Department of Transportation, 1200 New Jersey Avenue, SE., West Building Ground Floor, Room W12-140, Washington, DC 20590-001.

• Hand Delivery: Documents may be submitted by hand delivery or courier to West Building Ground Floor, Room W12-140, 1200 New Jersey Avenue, SE., Washington, DC, between 9 a.m. and 5 p.m., Monday through Friday, except Federal holidays.

Instructions: All submissions must include the agency name and docket number or Regulatory Identification Number (RIN) for this rulemaking. Note that all comments received will be posted without change at http://www.Regulations.gov including any personal information provided. Please see the Privacy Act heading under Regulatory Notices.

Docket: For access to the docket to read background documents or comments received, go to http://www.Regulations.gov; or in person at the Docket Management Facility; U.S. Department of Transportation, West Building Ground Floor, Room W12-140, 1200 New Jersey Avenue, SE., Washington, DC, between 9 a.m. and 5 p.m., Monday through Friday, except Federal holidays.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is proposing to amend the joint regulations by updating the Regulations and Rules in various categories. The proposed changes would update the following sections of the Regulations and Rules: Condition of Vessels, and Preclearance and Security for Tolls. These updates are necessary to take account of updated procedures which will enhance the safety of transits through the Seaway. Many of these proposed changes are to clarify existing requirements in the regulations. Where new requirements or regulations are being proposed, an explanation for such a change is provided below.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The SLSDC is proposing to amend two sections of the Condition of Vessels portion of the joint Seaway regulations. Under section 401.8, “Landing booms”, the SLSDC is clarifying that no more than 4 mooring lines will be handled by Seaway personnel as part of the tie-up service. In addition, the proposed change clarifies that tie-up service does not include let go service. In section 401.24, “Application for preclearance”, the SLSDC is requiring that preclearance applications must be received by the SLSMC between 08:00-16:00 hours Monday through Friday and at least 24 hours prior to the vessel's arrival.

The other changes to the joint regulations are merely editorial or to clarify existing requirements.

Regulatory Evaluation

This proposed regulation involves a foreign affairs function of the United States and therefore Executive Order 12866 does not apply and evaluation under the Department of Transportation's Regulatory Policies and Procedures is not required.

Regulatory Flexibility Act Determination

I certify this proposed regulation will not have a significant economic impact on a substantial number of small entities. The St. Lawrence Seaway Regulations and Rules primarily relate to commercial users of the Seaway, the vast majority of whom are foreign vessel operators. Therefore, any resulting costs will be borne mostly by foreign vessels.

Environmental Impact

This proposed regulation does not require an environmental impact statement under the National Environmental Policy Act (49 U.S.C. 4321, et reg.) because it is not a major federal action significantly affecting the quality of the human environment.

Federalism

The Corporation has analyzed this proposed rule under the principles and criteria in Executive Order 13132, dated August 4, 1999, and has determined that this proposal does not have sufficient federalism implications to warrant a Federalism Assessment.

Unfunded Mandates

The Corporation has analyzed this proposed rule under Title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation proposes to amend 33 CFR part 401 as follows:

PART 401—SEAWAY REGULATIONS AND RULES

Subpart A—Regulations

1. The authority citation for subpart A of part 401 continues to read as follows:

Authority: 33 U.S.C. 983(a) and 984(a)(4), as amended; 49 CFR 1.52, unless otherwise noted.

2. In § 401.8, revise paragraph (c) to read as follows:

§ 401.8 Landing booms.

* * * * *

(c) Vessels not equipped with or not using landing booms must use the Seaway's tie-up service at approach walls using synthetic mooring lines only. Maximum of 4 lines will be handled by Seaway personnel and the service does not include let go service.

3. In § 401.11, revise paragraph (a) introductory text to read as follows:

§ 401.11 Fairleads.

(a) Mooring lines shall:

* * * * *

4. In § 401.12 revise paragraphs (a)(1), (a)(1)(i), and (a)(2) to read as follows:

§ 401.12 Minimum requirements—mooring lines and fairleads.

(a) * * *

(1) Vessels of more than 100 m but not more than 150 m in overall length shall have three mooring lines—wires or synthetic hawsers, which shall be independently power operated by winches, capstans or windlasses. All lines shall be led through closed chocks or fairleads acceptable to the Manager and the Corporation.

(i) One shall lead forward and one shall lead astern from the break of the bow and one lead astern from the quarter.

* * * * *

(2) Vessels of more than 150 m in overall length shall have four mooring lines—wires, independently power operated by the main drums of adequate power operated winches as follows:

(i) One mooring line shall lead forward and one mooring line shall lead astern from the break of the bow.

(ii) one mooring line shall lead forward and one mooring line shall lead astern from the quarter.

* * * * *

5. Revise § 401.24 to read as follows:

§ 401.24 Application for preclearance.

The representative of a vessel may, on a preclearance form obtained from the Manager, St. Lambert, Quebec, or downloaded from the St. Lawrence Seaway Web site (http://www.greatlakes-seaway.com), apply for preclearance, giving particulars of the ownership, liability insurance and physical characteristics of the vessel and guaranteeing payment of the fees that may be incurred by the vessel. The preclearance application must be received by the St. Lawrence Seaway between 08:00—16:00 hours Monday through Friday excluding holidays and at least 24 hours prior to arrival.

6. In § 401.39, revise paragraph (a) as follows:

§ 401.39 Preparing mooring lines for passing through.

* * * * *

(a) Winches shall be capable of paying out and heaving in at a minimum speed of 46 m per minute; and

* * * * *

7. In § 401.40, revise paragraph (a) to read as follows:

§ 401.40 Entering, exiting, or position in lock.

(a) Unless directed by the Manager and the Corporation, no vessel shall proceed into a lock in such a manner that the stem passes the stop symbol on the lock wall nearest the closed gates.

* * * * *

8. In § 401.51, revise paragraph (b) to read as follows:

§ 401.51 Signaling approach to a bridge.

* * * * *

(b) The signs referred to in subsection (a) are placed at distances varying between 550 m and 2990 m upstream and downstream from moveable bridges at sites other than lock sites.

* * * * *

9. In § 401.57, revise paragraph (c) to read as follows:

§ 401.57 Disembarking or boarding.

* * * * *

(c) Persons disembarking or boarding shall be assisted by a member of the vessel's crew under safe conditions.

10. In § 401.65, revise paragraph (c) to read as follows:

§ 401.65 Communication—ports, docks and anchorages.

* * * * *

(c) Every vessel prior to departing from a port, dock, or anchorage shall report to the appropriate Seaway station its destination and its expected time of arrival at the next check point.

* * * * *

Issued at Washington, DC on January 18, 2011.
Saint Lawrence Seaway Development Corporation.
Collister Johnson, Jr.,
Administrator.

[FR Doc. 2011-1833 Filed 1-27-11; 8:45 am]

BILLING CODE 4910-61-P